NATIONAL AERONAUTICS AND SPACE ADMINISTRATION

[Notice (05-103)]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATES: June 8, 2005.

FOR FURTHER INFORMATION CONTACT: Jerry L. Seemann, Patent Counsel, Marshall Space Flight Center, Mail Code LS01, Huntsville, AL 35812; telephone (256) 544-6580; fax (256) 544-0258.

NASA Case No. MFS-31709-1: System for Controlling Child Safety Seat;

NASA Case No. MFS-31771-1: Cushion System for Multi-Use Child Safety Seat;

NASA Case No. MFS-32008-1: Film Processing For Automated Fiber Placement;

NASA Case No. MFS-32104-1: Channel-Wall Rocket Nozzle Built With A Slotted Intermediate Layer.

Dated: May 31, 2005.
Keith T. Sefton,
Deputy General Counsel, Administration and Management.

[FR Doc. 05-11306 Filed 6-7-05; 8:45 am]

BILLING CODE 7510-13-P